FEDERAL MINE SAFETY AND HEALTH REVIEW COMMISSION

Sunshine Act Meetings

TIME AND DATE: 10 a.m., Tuesday, December 17, 2024.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Mallery v. El Segundo Coal Co., LLC, Docket No. CENT 2024-0106. (Issues include whether the Judge erred in finding no adverse action, and whether the Judge erred in issuing show cause orders.)

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD. Relay/1-800-877-8339 for toll free.

Phone Number for Listening to Meeting: 1-(866) 236-7472. Passcode: 678-100.

Authority: 5 U.S.C. 552b.

Dated: December 4, 2024.
Sarah L. Stewart,
Deputy General Counsel.

[FR Doc. 2024-28874 Filed 12-4-24; 4:15 pm]

BILLING CODE 6735-01-P